NATIONAL ARCHIVES AND RECORDS ADMINISTRATION

Agency Information Collection Activities: Submission for OMB Review; Comment Request

AGENCY: National Archives and Records Administration (NARA).

ACTION: Notice.

SUMMARY: NARA is giving public notice that the agency has submitted to OMB for approval the information collection described in this notice. The public is invited to comment on the proposed information collection pursuant to the Paperwork Reduction Act of 1995.

DATES: Written comments must be submitted to OMB at the address below on or before July 31, 2003 to be assured of consideration.

ADDRESSES: Comments should be sent to: Office of Information and Regulatory Affairs, Office of Management and Budget, Attn: Ms. Brooke Dickson, Desk Officer for NARA, Washington, DC 20503.

FOR FURTHER INFORMATION CONTACT: Requests for additional information or copies of the proposed information collection and supporting statement should be directed to Tamee Fechhelm at telephone number (301) 837-1694 or fax number (301) 837-3213.

SUPPLEMENTARY INFORMATION: Pursuant to the Paperwork Reduction Act of 1995 (Public Law 104-13), NARA invites the general public and other Federal agencies to comment on proposed information collections. NARA published a notice of proposed collection for this information collection on January 16, 2003 (68 FR 2367 and 2368). We received comments from seven members of the public. Following is a summary of the comments and a discussion of the changes that we made to the proposed information collection.

Characterization of the Individuals Listed

Some members from the public expressed concern about the use of the word “professional” to characterize persons on the listing. We have replaced the term “professional researcher” with “independent researcher” on the application form, the listing, and related Web pages to more accurately describe the researchers' status. The application form, listing, and related Web pages also clearly state that inclusion on the listing may not be viewed or advertised as an endorsement by NARA. In addition, we have added a disclaimer to the related Web pages that makes clearer that neither the independent researcher's level of expertise nor his or her fee schedule are eligibility factors for inclusion on the listing.

Scope of the Listing

Several members of the public expressed concerns that the proposed collection did not make clear that this listing is limited to individuals available to do research in person at NARA facilities. On the application form, item 1 of the conditions for inclusion on the listing provides that stipulation, as does each of the related Web pages.

Extent of the Information About Each Independent Researcher

Several members of the public recommended the inclusion of more information about the independent researcher's level of expertise, skills, and research specialties (e.g., listing motion pictures as a separate audiovisual type) in the listing. The listing has been modified to include motion pictures as a separate audiovisual type and organized to more closely correlate with similar information elsewhere on our Web site. The information collection, however, is intended to gather only the amount of information necessary to provide a link between our customers who are unable to visit our facilities and independent researchers who may potentially be able to help them. Information that demonstrates the degree of experience and special skills claimed by an independent researcher is more appropriately disseminated by that individual, through—for example—that individual's Web site (which may be linked from our listing at the discretion of the independent researcher).

Requirements for Retention of Researchers on the Listing

A few members of the public requested clarification of the conditions and procedures for remaining on the listing. These issues included the process for updating information on the listing and the penalties for inappropriate use of NARA facilities by independent researchers. Paragraphs 5 and 6 of the conditions on the application form for inclusion on the independent researcher listing have been amended to provide more detail about the process for updating information on the listing and the consequences of independent researchers' violation of NARA regulations of use of our facilities.

Dissemination of the Listing

A few members of the public requested clarification of the status of existing unofficial listings and two separate official special media reproduction services vendors lists. Distribution of the new independent researchers listing will render all previous unofficial listings obsolete and unusable. We will continue to disseminate the special media reproduction services vendors listings, which provide information about a number of private vendors who supply digital, photographic, and oversize electrostatic reproductions of still pictures, maps, plans, drawings, and aerial photographs; and copies of film and broadcast quality videotapes in our holdings. Individuals on those two listings who also offer independent research services will be free to participate in the proposed independent researchers listing.

NARA has submitted the described information collection to OMB for approval.

In response to this notice, comments and suggestions should address one or more of the following points: (a) Whether the proposed information collection is necessary for the proper performance of the functions of NARA; (b) the accuracy of NARA's estimate of the burden of the proposed information collection; (c) ways to enhance the quality, utility, and clarity of the information to be collected; and (d) ways to minimize the burden of the collection of information on respondents, including the use of information technology. In this notice, NARA is soliciting comments concerning the following information collection:

Title: Independent Researcher Listing Application Form.

OMB number: 3095-NEW.

Agency form number: NA Form 14115.

Type of review: Regular.

Affected public: Business or for-profit, nonprofit organizations and institutions, federal, state and local government agencies, and individuals or households.

Estimated number of respondents: 100.

Estimated time per response: 9 minutes.

Frequency of response: On occasion.

Estimated total annual burden hours: 15 hours.

Abstract: NARA is not authorized or funded to undertake in-depth research into the records within our holdings. Some customers, however, are not able to undertake such research themselves due to a variety of reasons, including geographic distance from our facilities, lack of time, and financial constraints. In the past, NARA has provided these individuals, on request, information about independent researchers who had advised us, on their own initiative, that they were interested in performing freelance research for hire at our facilities. Following a recent review of this process, however, NARA concluded that the information was neither collected, maintained, nor disseminated in the most efficient and effective manner. To better serve all customers, NARA created NA Form 14115, Independent Researcher Listing Application Form. The new form will help us to improve our program efficiency and effectiveness, as mandated by the Government Performance and Results Act, and enhance service to our customers.

Dated: June 24, 2003.
L. Reynolds Cahoon,
Assistant Archivist for Human Resources and Information Services.

[FR Doc. 03-16510 Filed 6-30-03; 8:45 am]

BILLING CODE 7515-01-P